DEPARTMENT OF COMMERCE

National Oceanic and Atmospheric Administration

50 CFR Parts 600 and 660

[Docket No. 991223347-9347; I.D. 042600B]

Fisheries Off West Coast States and in the Western Pacific; Pacific Coast Groundfish Fishery; Trip Limit Adjustments

AGENCY: National Marine Fisheries Service (NMFS), National Oceanic and Atmospheric Administration (NOAA), Commerce.

ACTION: Fishing restrictions; request for comments.

SUMMARY: NMFS announces changes to trip limits in the Pacific Coast groundfish fishery. These actions, which are authorized by the Pacific Coast groundfish fishery management plan (FMP), are intended to help the fisheries achieve optimum yield (OY).

DATES: Effective 0001 hours local time May 1, 2000 (May 16, 2000 for the “B” platoon), unless modified, superseded or rescinded, until the effective date of the 2001 annual specifications and management measures for the Pacific Coast groundfish fishery, which will be published in the Federal Register. Comments on this rule will be accepted through May 19, 2000.

ADDRESSES: Submit comments to William Stelle, Jr., Administrator, Northwest Region (Regional Administrator), NMFS, 7600 Sand Point Way N.E., BIN C15700, Bldg. 1, Seattle, WA 98115-0070; or Rodney McInnis, Acting Administrator, Southwest Region, NMFS, 501 West Ocean Blvd., Suite 4200, Long Beach, CA 90802-4213.

FOR FURTHER INFORMATION CONTACT: Katherine King or Yvonne deReynier, Northwest Region, NMFS, 206-526-6140.

SUPPLEMENTARY INFORMATION: The following changes to current management measures were recommended by the Pacific Fishery Management Council (Council), in consultation with the States of Washington, Oregon, and California, at its April 3-7, 2000, meeting in Portland, OR. Pacific coast groundfish landings will be monitored throughout the year, and further adjustments to the trip limits will be made as necessary to stay within the OYs and allocations announced in the annual specifications and management measures for the groundfish fishery, published in the Federal Register at 65 FR 221 (January 4, 2000), as amended at 65 FR 17805 (April 5, 2000).

Housekeeping

The Council made a number of housekeeping recommendations that would remedy minor problems in the management measures that were implemented at the beginning of the year. (1) The trip limits for Pacific ocean perch (POP) were inadvertently applied coastwide even though POP south of 40°10′ N. lat. were already included in the trip limits for minor slope rockfish. This document clarifies that the trip limits for POP (line 5 in Tables 3, 4, and 5) apply only north of 40°10′ N. lat., South of 40°10′ N. lat., POP remains in the minor slope rockfish category. (2) Flag rockfish are not found north of 40°10′ N. lat., and in Table 2 are removed from the minor shelf rockfish category in that area. (3) New testimony from fishers revealed that red-banded rockfish are not caught on the continental shelf, but are taken in deeper waters. Consequently, red-banded rockfish, which is one of the minor rockfish species that occurs both north and south of 40°10′ N. lat., is moved from the shelf to the slope category in Table 2. These reassignments result in no change to the OYs or trip limits for any species or species group. Other provisions remain the same except as explained below.

Flatfish

The Council heard testimony that limited entry trawl fishers were encountering small amounts of flatfish, particularly English sole, when fishing with large footropes in deeper water on the continental slope. Current restrictions would have required the use of small footrope gear for landings of any flatfish except Dover and rex soles between May 1-October 31, 2000. (This provision also applies to petrale sole from March 1-April 30, 2000.) The Council recommended an incidental trip limit for other flatfish of 400 lb (181 kg) per trip for large footrope trawls between May and October so that unavoidable incidental catch would not have to be discarded. This amount is believed to be too small to encourage any target fishing for flatfish on the shelf with large footrope gear, which is discouraged due to the potential interception of depleted species. Dover and rex soles remain in the only flatfish species in the FMP that are not managed according to the size of the trawl footrope onboard; there continues to be no poundage limit on arrowtooth flounder, petrale sole, and other flatfish taken with small footrope trawls.

Nearshore Minor Rockfish

A new strategy for managing rockfish was implemented on January 1, 2000, which reduced the amount of rockfish available to nearshore commercial fisheries (65 FR 221, January 4, 2000, as amended). When the current limits were recommended by the Council in November 1999, there was a clear need to reduce landings significantly, but there was no way to anticipate reductions in participation. The best available information at the April Council meeting indicated that landings of rockfish through February 2000 were minimal. Although the commercial nontrawl fisheries are subject to a high degree of seasonality, it appears unlikely that the current limits would allow achievement of the nearshore rockfish limited entry and open access allocations. The Council recommended that cautious increases to the nearshore rockfish limits begin May 1, with further adjustments to be made later in the year as needed. Any increase runs some risk of accelerating the fisheries to the point where they would need to be closed before the end of the year, but the Council believed the risk to be preferable to continuing with limits that provide very little opportunity for profitable trips. Even with these increases, the trip limits for nearshore rockfish remain significantly lower than in recent years, and will not accommodate the needs of the entire open access fleet. The Council made the following recommendations:

For the limited entry nontrawl fishery north of 40°10′ N. lat., the nearshore minor rockfish trip limit is changed from 2,400 lb (1,089 kg) per 2 months, of which no more than 1,200 lb (544 kg) may be species other than black or blue rockfish, to 3,000 lb (1,361 kg) per 2 months, of which no more than 1,400 lb (635 kg) may be species other than black or blue rockfish.

For the limited entry nontrawl fishery south of 40°10′ N. lat., the nearshore minor rockfish trip limit is increased from 1,000 (454 kg) to 1,300 lb (590 kg) per 2-month period.

For the open access nontrawl fishery north of 40°10′ N. lat., the nearshore minor rockfish trip limit is increased from 1,000 lb (454 kg) per 2 months, of which no more than 500 lb (227 kg) per 2 months, of which no more than 700 lb (318 kg) may be species other than black or blue rockfish. In addition, special provisions were made for vessels landing in Pacific City, OR.

The Council heard testimony from two dory fishers from Pacific City, who stated that the limits were so low that vessels were not fishing and virtually no landings of groundfish had occurred so far this year. (Less than 200 lb (113 kg) of groundfish have been landed in Pacific City through March 30, 2000.) The dory representatives asked the Council to consider compressing their groundfish fishery into a 5-month season, from May 1 through September 30, 2000, after which no landings of groundfish would be allowed in Pacific City for the rest of the year. This could provide larger monthly cumulative limits when the season is open, at the expense of closing Pacific City to landings of groundfish for the rest of the year.

Pacific City is a small community, geographically isolated from the rest of the coast. The nearest ports with processing facilities are Garibaldi to the north and Newport to the south, both in Oregon. The higher limit and later closure would be linked to landing in Pacific City. There are no docks for offloading in Pacific City. Therefore, these limits are only available to small vessels that can land on the beach, and cannot be harvested by larger vessels that later can land in other areas. The Pacific City groundfish fleet consists entirely of open access dories, small vessels less than 25 feet (7.68 m) in length, that are launched from, and land on, the beach. These vessels are so small that they conduct only day trips near shore. This dory fleet consists of about 11 vessels of which half are active in the fishery. The groundfish taken by these vessels are almost entirely black and blue rockfish, predominantly black. Occasionally a dory fisher also participates in the salmon fishery. Alternative fisheries do not exist for the dory fleet in Pacific City.

The Council carefully considered the composition of the fleet, the inability of dories to participate in other fisheries, the geographical isolation and lack of port and processing facilities that would discourage other vessels from landing in Pacific City, and agreed to recommend a variation in the season and trip limit for this localized fleet. The Council recommended a cumulative trip limit of 2,200 lb (998 kg) per month from May 1 through September 30, after which no open access landings of groundfish may be made in Pacific City, even if taken in the salmon fishery. The amount of groundfish available during the year is intended to be no different than for open access fishers operating under a longer season and landing elsewhere along the coast. This action is consistent with the Council's intent “* * * to provide a continued opportunity to nearshore fishers to selectively harvest black and blue rockfish * * *” (65 FR 235, January 4, 2000).

For the open access nontrawl fishery south of 40°10′ N. lat., the nearshore minor rockfish trip limit is increased from 550 lb (249 kg) to 800 lb (363 kg) per 2-month period. Sablefish North of 35° N. lat.

Similarly, landing by the daily trip limit fisheries for sablefish taken with nontrawl gear north of 36° N. lat., were lower than expected through the end of February 2000, although close to 1999 levels. The Council recommended continuing the 300-lb (136-kg) daily trip limit, but increasing the cumulative amount that may be landed from 2,100 (953 kg) to 2,400 lb (1,089 kg) per 2-month period in both the limited entry and open access nontrawl sablefish fisheries.

At its June meeting in Portland, Oregon, the Council will make recommendations for the opening date, duration, and level of cumulative trip limits for the nontrawl, limited entry regular sablefish season.

NMFS Actions

For the reasons stated here, NMFS concurs with the Council's recommendations and announces the following changes to the 2000 annual management measures (65 FR 221, January 4, 2000, as amended at 65 FR 17805, April 5, 2000), as follows:

In Section IV., a new paragraph C.(4) is added and Tables 2, 3, 4, and 5 are revised to read as follows:

IV. NMFS Actions

* * * * *

Table 2.—Minor Rockfish Species (Excludes Thornyheads)
North of 40° 10″ N. lat. | South of 40° 10″ N. lat.
Nearshore
black, Sebastes melanops | black, Sebastes melanops.
black and yellow, S. chrysolmelas | black and yellow, S. chrysolmelas.
blue, S. mystinus | blue, S. mystinus.
brown, S. auriculatus | brown, S. auriculatus.
calico, S. dalli | calico, S. dalli.
China, S. Nebulosus | California scorpionfish, Scorpaena guttata.
copper, S. caurinus | China, Sebastes nebulosus.
gopher, S. carnatus | copper, S. caurinus.
grass, S. rastrelliger | gopher, S. carnatus.
kelp, S. atrovirens | grass, S. rastrelliger.
olive, S. serranoides | kelp, S. atrovirens.
quillback, S. maliger | olive, S. serranoides.
treefish, S. serriceps | quillback, S. maliger. treefish, S. serriceps.
Shelf
bronzespotted, S. gilli | bronzespotted, S. gilli.
bocaccio, S. paucispinis | chameleon, S. phillipsi.
chameleon, S. phillipsi | dwarf-red, S. rufinanus.
chilipepper, S. goddei | flag, S. rubrivinctus.
cowcod, S. levis | freckled, S. lentiginosus.
dwarf-red, S. rufinanus | greenblotched, S. rosenblatti.
freckled, S. lentiginosus | greenspotted, S. chlorostictus.
greenblotched, S. rosenblatti | greenstriped, S. elongatus.
greenspotted, S. chlorostictus | halfbanded, S. semicinctus.
greenstriped, S. elongatus | honeycomb, S. umbrosus.
halfbanded, S. semicinctus | Mexican, S. macdonaldi.
honeycomb, S. umbrosus | pink, S. eos.
Mexican, S. macdonaldi | pinkrose, S. simulator.
pink, S. eos | pygmy, S. wilsoni.
pinkrose, S. simulator | redstriped, S. proriger.
pygmy, S. wilsoni | rosethorn, S. helvomaculatus.
redstriped, S. proriger | rosy, S. rosaceus.
rosethorn, S. helvomaculatus | silvergrey, S. brevispinis.
rosy, S. rosaceus | speckled, S. ovalis.
silvergrey, S. brevispinis | squarespot, S. hopkinsi.
speckled, S. ovalis | starry, S. constellatus.
squarespot, S. hopkinsi | stripetail, S. saxicola.
starry, S. constellatus | swordspine, S. ensifer.
stripetail, S. saxicola | tiger, S. nigrocinctus.
swordspine, S. ensifer | vermilion, S. miniatus.
tiger, S. nigrocinctus | yelloweye, S. ruberrimus.
vermilion, S. miniatus | yellowtail, S. flavidus.
yelloweye, S. ruberrimus
Slope
aurora, S. aurora | aurora, S. aurora.
bank, S. rufus | bank, S. rufus.
blackgill, S. melanostomus | blackgill, S. melanostomus.
darkblotched, S. crameri | darkblotched, S. crameri.
redbanded, S. babcocki | Pacific ocean perch (POP), S. alutus.
rougheye, S. aleutianus | redbanded, S. babcocki.
sharpchin, S. zacentrus | rougheye, S. aleutianus.
shortraker, S. borealis | sharpchin, S. zacentrus.
splitnose, S. diploproa | shortraker, S. borealis.
yellowmouth, S. reedi | yellowmouth, S. reedi.

* * * * *

Table 3.—2000 Trip Limits ¹ and Gear Requirements ² for Limited Entry Trawl Gear
[Read Section IV.A. NMFS Actions before using this table.]
Species/groups | Jan-Feb | Mar-Apr | May-Jun | Jul-Aug | Sep-Oct | Nov-Dec
Minor slope rockfish:
North | 3,000 lb/2 months |  | 5,000 lb/2 months |  |  | 1,500 lb/month.
South | 3,000 lb/2 months |  | 5,000 lb/2 months |  |  | 1,500 lb/month.
Splitnose-South | 8,500 lb/2 months |  | 14,000 lb/2 months |  |  | 4,000 lb/month.
POP-North | 500 lb/month |  | 2,000 lb/month |  |  | 500 lb/month.
Sablefish | 7,000 lb/2 months; 22-inch size limit ³ |  | 10,000 lb/2 months; 22-inch size limit ³ |  |  | 3,000 lb/month; 22-inch size limit.³
Longspine thornyhead | 2,000 lb/2 months |  | 4,000 lb/2 months |  |  | 6,000 lb/month.
Shortspine thornyhead | 3,000 lb/2 months |  | 1,000 lb/2 months |  |  | 1,500 lb/month.
Dover Sole | 55,000 lb/2 months |  | 20,000 lb/2 months |  |  | 20,000 lb/month.
Arrowtooth flounder | 10,000 lb/ trip |  | Small footrope—No pound limit; Large footrope—Included in “other flatfish” trip limit ² |  |  | 10,000 lb/trip.
Petrale sole | No restriction | No limit but small footrope required | Small footrope—No pound limit; Large footrope—Included in “other flatfish” trip limit ² |  |  | No restriction.
Rex sole | No limit
Other flatfish ⁴ | Small footrope—No pound limit; Large footrope—400 lb per trip ²
Whiting shoreside ⁵ | 20,000 lb/trip before primary season |  | Primary season |  |  | 20,000 lb/trip after primary season.
Use of small footrope bottom trawl or midwater trawl required for landing all the following species: ⁶
Minor shelf rockfish:
North | 300 lb/month |  | 1,000 lb/month |  |  | 300 lb/month.
South | 500 lb/month |  | 1,000 lb/month |  |  | 500 lb/month.
Canary rockfish | 100 lb/month |  | 300 lb/month |  |  | 100 lb/month.
Widow rockfish:
Mid-water trawl | 30,000 lb/2 months |  | 30,000 lb/2 months |  |  | 30,000 lb/2 months.
Small footrope trawl | 1,000 lb/month |  | 1,000 lb/month |  |  | 1,000 lb/month.
Yellowtail—North: ⁷
Mid-Water trawl | 10,000 lb/2 months |  | 30,000 lb/2 months |  |  | 10,000 lb/2 months.
Small footrope trawl | 1,500 lb/month |  | 1,500 lb/month |  |  | 1,500 lb/month.
Bocaccio—South ⁷ | 300 lb/month |  | 500 lb/month |  |  | 300 lb/month.
Chilipepper—South: ⁷
Mid-water trawl | 25,000 lb/2 months |  | 25,000 lb/2 months |  |  | 25,000 lb/2 months.
Small footrope trawl | 7,500 lb/2 months |  | 7,500 lb/2 months |  |  | 7,500 lb/2 months.
Cowcod—South ⁷ | 1 fish per landing |  | 1 fish per landing |  |  | 1 fish per landing.
Minor nearshore rockfish:
North | 200 lb/month |  | 200 lb/month |  |  | 200 lb/month.
South | 200 lb/month |  | 200 lb/month |  |  | 200 lb/month.
Lingcod | CLOSED |  | 400 lb/month; 24-inch size limit ⁸ |  |  | CLOSED.
¹ These trip limits apply coastwide unless otherwise specified. “North” means 40°10′ N. lat. to the US-Canada border. “South” means 40°10′ N. lat to the US-Mexico border. 40°10′ N. lat. is about 20 nautical miles south of Cape Mendocino CA.
² Gear requirements and prohibitions are explained at paragraph IV.A.(14).
³ No more than 500 lbs (227 kg) per trip may be sablefish smaller than 22 inches (56 cm) total length, which counts toward the cumulative limit.
⁴ Other flatfish means all flatfish listed at 50 CFR 660.302 except those in this Table 3 with a trip limit (excludes rex sole).
⁵ The whiting “per trip” limit in the Eureka area inside 100 fm is 10,000 lb/trip throughout the year (See IV.B.(3)(c)).
⁶ Small footrope trawl means a bottom trawl net with a footrope no larger than 8 inches (20 cm) in diameter. Midwater gear also may be used; the footrope must be bare. See paragraph IV.A.(14).
⁷ Yellowtail rockfish and POP in the south and bocaccio, chilipepper, and cowcod rockfishes in the north are included in the trip limits for minor shelf rockfish in the appropriate area (Table 2).
⁸ Lingcod must be greater than or equal to 24 inches (61 cm) total length. See IV.A.(6).
To convert pounds to kilograms, divide by 2.20462, the number of pounds in one kilogram.

Table 4.—2000 Trip Limits ¹ for Limited Entry Fixed Gear
[Read Section IV. A. NMFS Actions before using this table.]
Species/groups | Jan-Feb | Mar-Apr | May-Jun | July-Aug | Sep-Oct | Nov-Dec
Minor slope rockfish:
North | 3,000 lb/2 months |  | 5,000 lb/2 months |  |  | 1,500 lb/month.
South | 3,000 lb/2 months |  | 5,000 lb/2 months |  |  | 1,500 lb/month.
Splitnose—South | 8,500 lb/2 months |  | 14,000 lb/2 months |  |  | 4,000 lb/month.
POP—North | 500 lb/month |  | 2,500 lb/month |  |  | 500 lb/month.
Sablefish (daily trip limit fishery):²
North of 36½ N. lat. | 300 lb/day, 2,100 lb/2 months or 1 landing above 300 lb but less than 600 lb/week, less than 1,800 lb/2 months |  | 300 lb/day, 2,400 lb/2 months (option to make one landing per week above 300 lb removed May 1; may be reinstated in July) |  |  | 300 lb/day, 2,400 lb/2 months.
South of 36½ N. lat. | 350 lb/day; or 1 landing above 350 lb per week, up to 1,050 lb |  | 350 lb/day; or 1 landing above 350 lb per week, up to 1,050 lb |  |  | 350 lb/day; or 1 landing above 350 lb per week, up to 1,050 lb.
Longspine thornyhead | 12,000 lb/2 months |  | 4,000 lb/2 months |  |  | 6,000 lb/month.
Shortspine thornyhead | 1,000 lb/month |  | 1,000 lb/month |  |  | 1,000 lb/month.
Dover sole | 55,000 lb/2 months |  | 20,000 lb/2 months |  |  | 20,000 lb/month.
Arrowtooth flounder | 10,000 lb/trip |  | No restriction |  |  | 10,000 lb/trip.
Petrale sole | No restriction |  | No restriction |  |  | No restriction.
Rex sole | No restriction |  | No restriction |  |  | No restriction.
Other flatfish ³ | No restriction |  | No restriction |  |  | No restriction.
Shoreside whiting ⁴ | 20,000 lb/trip |  | Open |  |  | 20,000 lb/trip.
Minor shelf rockfish:
North | 300 lb/month |  | 1,000 lb/month |  |  | 300 lb/month.
South:
40½10¼-36½00¼ N. lat. | 500 lb/month | CLOSED ⁵ | 1,000 lb/month |  |  | 500 lb/month.
South of 36½00¼ N. lat. | CLOSED | 500 lb/month | 1,000 lb/month |  |  | 500 lb/month.
Canary—Coastwise:
North | 100 lb/month |  | 300 lb/month |  |  | 100 lb/month.
South:
40½10¼-36½00¼ N. lat | 100 lb/month | CLOSED | 300 lb/month |  |  | 100 lb/month.
South of 36½00¼ N. lat | CLOSED | 100 lb/month | 300 lb/month |  |  | 100 lb/month.
Widow rockfish—Coastwide:
North | 3,000 lb/month |  | 3,000 lb/month |  |  | 3,000 lb/month.
South:
40½10¼-36½00¼ N. lat | 3,000 lb/month | CLOSED | 3,000 lb/month |  |  | 3,000 lb/month.
South of 36½00¼ N. lat | CLOSED | 3,000 lb/month | 3,000 lb/month |  |  | 3,00 lb/month.
Yellowtail—North ⁶ | 1,500 lb/month |  | 1,500 lb/month |  |  | 1,500 lb/month.
Bocaccio—South: ⁶
40½10¼-36½00¼ N. lat | 300 lb/month | CLOSED | 500 lb/month |  |  | 300 lb/month.
South of 36½00¼ N. lat | CLOSED | 300 lb/month | 500 lb/month |  |  | 300 lb/month.
Chilipepper—South: ⁶
40½10¼-36½00¼ N. lat | 2,000 lb/month | CLOSED | 2,000 lb/month |  |  | 2,000 lb/month.
South of 36½00¼ N. lat | CLOSED | 2,000 lb/month | 2,000 lb/month |  |  | 2,000 lb/month.
Cowcod—South: ⁶
40½10¼-36½00¼ N. lat | 1 fish per landing | CLOSED | 1 fish per landing |  |  | 1 fish per landing.
South of 36½00¼ | CLOSED | 1 fish per landing | 1 fish per landing |  |  | 1 fish per landing.
Minor nearshore rockfish:
North | 2,400 lb/2 months, of which no more than 1,200 lb may be species other than black or blue rockfish ⁷ |  | 3,000 lb/2months, of which no more than 1,400 lb may be species other than black or blue rockfish |  |  | 3,000 lb/2 months, of which no more than 1,400 lb may be species other than black or blue rockfish.⁷
South:
40½10¼-36½00¼ N. lat | 1,000 lb/2 months | CLOSED | 1,300 lb/2 months |  |  | 1,300 lb/2 months.
South of 36½00¼ N. lat | CLOSED | 1,000 lb/2 months | 1,300 lb/2months |  |  | 1,300 lb/2 months.
Lingcod ⁸ | CLOSED |  | 400 lb/month; size limit 24 inches north, 26 inches south |  |  | CLOSED.
¹ Trip limits apply coastwise unless otherwise specified. North means 40½ 10¼ N. lat. to the US-Canada border. “South” means 40½ 10¼ N. lat. to the U.S.-Mexico border.
² The sablefish size limit does not apply during the daily trip limit fishery, but does apply during the “regular” and “mop-up” seasons north of 36½ N. lat. See IV.B(2).
³ Other flatfish means all flatfish listed at 50 CFR 660.302 except those in this Table 4 with a trip limit.
⁴ The whiting “per trip” limit in the Eureka area for catch inside 100 fathoms is 10,000 lb/trip throughout the year.
⁵ Closed means it is prohibited to take and retain, possess, or land the designated species in the time or area indicated (see IV.A(7)).
⁶ Yellowtail rockfish and POP in the south and bocaccio, chilipepper, and cowcod rockfishes in the north are included in trip limits for minor shelf rockfish (Table 2).
⁷ The “per trip” limit for black rockfish off Washington also applies. See paragraph IV.B.(4).
⁸ The size limit for lingcod is 24 inches (61 cm) in the north and 26 inches (66 cm) in the south, total length.
To convert pounds to kilograms, divide by 2.20462, the number of pounds in one kilogram.

* * * * *

C. Trip Limits in the Open Access Fishery

* * * * *

(4) Landings in Pacific City, Oregon. For purposes of this paragraph, Pacific City, Oregon is the area between 45°20′15″N. lat.

(a) May 1-September 30, 2000: No more than 2,200 lb (998 kg) of minor nearshore rockfish may be landed per month in Pacific City. Within the 2,200 lb (998 kg) monthly limit, no more than 700 lb (318 kg) may be species other than black or blue rockfish.

October 1-December 31, 2000: Groundfish may not be landed in Pacific City, even if harvested in a nongroundfish fishery.

* * * * *

Table 5.—2000 Trip Limits ¹ for All Open Access Gear Except Exempted Trawl Gear Engaged in Fishing for Pink Shrimp *
[Read Section IV. A. NMFS Actions before using this table.]
Species/groups | JAN-FEB | MAR-APR | MAY-JUN | JULY-AUG | SEP-OCT | NOV | DEC
Minor slope rockfish:
North | 500 lb/2 months |  | 500 lb/2 months |  |  | 500 lb/2 months.
South | 500 lb/2 months |  | 500 lb/2 months |  |  | 500 lb/2 months.
Splitnose—South | 200 lb/month |  | 200 lb/month |  |  | 200 lb/month.
POP—North | 100 lb/month |  | 100 lb/month |  |  | 100 lb/month.
Sablefish:²
North of 36° | 300 lb/day, but no more than 2,100 lb/2 months |  | 300 lb/day, but no more than 2,400 lb/2months |  |  | 300 lb/day, but no more than 2,400 lb/2 months
South of 36° | 350 lb/day |  | 350 lb/day |  |  | 350 lb/day.
Thornyheads (longspine and shortspine combined):
North of Pt. Conception | CLOSED ³ |  | CLOSED |  |  | CLOSED.
South of Pt. Conception | 50 lb/day |  | 50 lb/day |  |  | 50 lb/day.
Arrowtooth | 200 lb/month |  | 200 lb/month |  |  | 200 lb/month.
Dover sole | (included in “other” flatfish limit)
Petrale sole | (included in “other” flatfish limit)
Nearshore flatfish | (included in “other” flatfish limit)
“Other” flatfish ⁴ | 300 lb/month |  | 300 lb/month |  |  | 300 lb/month.
Shoreside whiting | 300 lb/month |  | 300 lb/month |  |  | 300 lb/month.
Minor shelf rockfish:
North | 100 lb/month |  | 100 lb/month |  |  | 100 lb/month.
South:
40°10′-36°00′ N. lat | 200 lb/month | CLOSED | 200 lb/month |  |  | 200 lb/month.
South of 36°00′ N. lat | CLOSED | 200 lb/month | 200 lb/month |  |  | 200 lb/month.
Canary:
North | 50 lb/month |  | 50 lb/month |  |  | 50 lb/month.
South:
40°10′-36°00′ N. lat | 50 lb/month | CLOSED | 50 lb/month |  |  | 50 lb/month.
South of 36°00′ N. lat | CLOSED | 50 lb/month | 50 lb/month |  |  | 50 lb/month.
Widow:
North | 3,000 lb/month |  | 3,000 lb/month |  |  | 3,000 lb/month.
South:
40°10′-36°00′ N. lat | 3,000 lb/month | CLOSED | 3,000 lb/month |  |  | 3,000 lb/month.
South of 36°00′ N. lat | CLOSED | 3,000 lb/month | 3,000 lb/month |  |  | 3,000 lb/month.
Yellowtail—North ⁵ | 100 lb/month |  | 100 lb/month |  |  | 100 lb/month.
Bocaccio—South:⁵
40°10′-36°00′ N. lat | 200 lb/month | CLOSED | 200 lb/month |  |  | 200 lb/month.
South of 36°00′ N. lat | CLOSED | 200 lb/month | 200 lb/month |  |  | 200 lb/month.
Chilipepper—South:⁵
40°10′-36°00′ N. lat | 2,000 lb/month | CLOSED | 2,000 lb/month |  |  | 2,000 lb/month.
South of 36°00′ N. lat | CLOSED | 2,000 lb/month | 2,000 lb/month |  |  | 2,000 lb/month.
Cowcod—South:⁵
40°10′-36°00′ N. lat | 1 fish per landing | CLOSED | 1 fish per landing |  |  | 1 fish per landing.
South of 36°00′ N. lat | CLOSED | 1 fish per landing | 1 fish per landing |  |  | 1 fish per landing.
Minor nearshore rockfish:
North | 1,000 lb/2 months,⁶ of which no more than 500 lb may be species other than black or blue rockfish |  | 1,500 lb/2 months,⁶ ⁷ of which no more than 700 lb may be species other than black or blue rockfish |  |  | 1,500 lb/2 months,⁶ ⁷ of which no more than 700 lb may be species other than black or blue rockfish.
South:
40°10′-36°00′ N. lat | 550 lb/2 months | CLOSED | 800 lb/2 months |  |  | 800 lb/2 months.
South of 36°00′ N. lat | CLOSED | 550 lb/2 months | 800 lb/2 months |  |  | 800 lb/2 months.
Lingcod ⁸ | CLOSED |  | 400 lb/month size limit 24 inches north, 26 inches south |  |  | CLOSED.
¹ Trip limits apply coastwide unless otherwise specified. North means 40°10′ N. lat. to the US-Canada border. “South” means 40°10′ N. lat. to the US-Mexico border.
² There is no size limit for sablefish taken and retained with nontrawl gear in the open access fishery. See IV.B.2.
³ Closed means it is prohibited to take and retain, possess, or land the species in the time or area indicated (see IV.A.(7)).
⁴ Other flatfish means all flatfish listed at 50 CFR 660.302 except those in this Table 5 with a trip limit.
⁵ Yellowtail rockfish and POP in the south and bocaccio, chilipepper, and cowcod rockfishes in the north are included in the trip limits for minor shelf rockfish in the appropriate area (Table 2).
⁶ The “per trip” limit for black rockfish off Washington also applies. See paragraph IV.B.(4).
⁷ Provisions for landing groundfish in Pacific City, OR are found at paragraph IV.C.(4).
⁸ The size limit for lingcod is 25 inches (61 cm) in the north and 26 inches (66 cm) in the south, total length.
To convert pounds to kilograms, divide by 2.20462, the number of pounds in one kilogram.

* * * * *

Classification

These actions are authorized by the regulations implementing the FMP and the emergency rule published at 65 FR 221 (January 4, 2000), and are based on the most recent data available. The aggregate data upon which these actions are based are available for public inspection at the office of the Administrator, Northwest Region, NMFS (see ADDRESSES) during business hours.

NMFS finds good cause to waive the requirement to provide prior notice and an opportunity for public comment on this action pursuant to 5 U.S.C. 553(b)(B), because providing prior notice and opportunity for comment would be impracticable. It would be impracticable because the next cumulative limit period begins on May 1, 2000, and affording additional notice and opportunity for public comment would impede the due and timely execution of the agency's function of managing fisheries to achieve OY. In addition, the affected public had the opportunity to comment on these actions at the April 3-7, 2000 Council meeting.

NMFS also finds good cause to waive the 30-day delay in effectiveness pursuant to 5 U.S.C. 553(d)(1), because all of the trip limit changes in this notice liberalize trip limits, thereby relieving restrictions. This action should be implemented at the beginning of the cumulative trip limit period to avoid confusion and provide fishers the uninterrupted opportunity to achieve the new trip limits. For these reasons good cause exists to waive the 30-day delay in effectiveness.

These actions are taken under the authority of 50 CFR 660.323(b)(1), and are exempt from review under E.O. 12866.

Authority: 16 U.S.C. 1801 et seq.

Dated: April 28, 2000.
Bruce C. Morehead,
Acting Director, Office of Sustainable Fisheries, National Marine Fisheries Service.

[FR Doc. 00-11108 Filed 5-1-00; 3:07 pm]

BILLING CODE 3510-22-M